DEPARTMENT OF LABOR

Occupational Safety and Health Administration

Agency Information-Collection Activities; Announcement of Office of Management and Budget (OMB) Approvals

AGENCY: Occupational Safety and Health Administration (OSHA), Labor.

ACTION: Notice of approval.

SUMMARY: The Occupational Safety and Health Administration (OSHA) announces that the Office of Management and Budget (OMB) approved the information-collection requirements found in certain sections of 29 CFR part 1910. This document provides the OMB approval numbers and expiration dates for these requirements.

FOR FURTHER INFORMATION CONTACT: Todd Owen, Directorate of Policy, Occupational Safety and Health Administration, U.S. Department of Labor, Room N-3627, 200 Constitution Avenue, NW., Washington, DC 20210, telephone (202) 693-2444.

SUPPLEMENTARY INFORMATION: In a series of Federal Register notices, the Agency announced its requests to OMB to renew its current approvals for various information-collection (paperwork) requirements in its health standards for General Industry. In these Federal Register announcements, the Agency provided 60-day comment periods for the public to respond to OSHA's burden-hour and cost estimates.

In accordance with the Paperwork Reduction Act of 1995 (44 U.S.C. 3501-3520), OMB renewed its approval for these information-collection requirements and assigned OMB control numbers to these requirements. The table below provides the following information for each of these OMB-approved requirements: The title of, and CFR reference to the standard that contains the requirement; the Federal Register reference (date, volume, and leading page) to OSHA's request for public comment on its burden-hour and cost estimates; the OMB control number; and the new expiration date.

Title | Federal Register reference | OMB control number | Expiration date
Inorganic Arsenic (29 CFR 1910.1018) | 65 FR 3977 01/25/2000 | 1218-0104 | 05/31/2003
Cotton Dust (29 CFR 1910.1043) | 65 FR 12318 03/08/2000 | 1218-0061 | 01/31/2002
Methylenedianiline (29 CFR 1910.1050) | 65 FR 11085 03/01/2000 | 1218-0184 | 01/31/2002
1,3-Butadiene (29 CFR 1910.1051) | 63 FR 3979 01/25/2000 | 1218-0170 | 05/31/2003

Under 5 CFR 1320.5(b), an Agency cannot conduct, sponsor, or require a response to a collection of information unless: The collection displays a valid OMB control number; and the Agency informs respondents that they are not required to respond to the collection of information unless it displays a currently valid OMB control number.

Authority and Signature

Charles N. Jeffress, Assistant Secretary of Labor for Occupational Safety and Health, directed the preparation of this notice. The authority for this notice is the Paperwork Reduction Act of 1995 (44 U.S.C. 3506) and Secretary of Labor's Order No. 3-2000 (65 FR 50017).

Charles N. Jeffress,
Assistant Secretary of Labor.

[FR Doc. 00-23702 Filed 9-14-00; 8:45 am]

BILLING CODE 4510-26-P